DEPARTMENT OF TRANSPORTATION

Federal Highway Administration

[Docket No. FHWA-2024-0054]

Agency Information Collection Activities: Request for Comments for a New Information Collection

AGENCY: Federal Highway Administration (FHWA), DOT.

ACTION: Notice and request for comments.

SUMMARY: The FHWA has forwarded the information collection request described in this notice to the Office of Management and Budget (OMB) to approve a new information collection. We are required to publish this notice in the Federal Register by the Paperwork Reduction Act of 1995.

DATES: Please submit comments by August 16, 2024.

ADDRESSES: You may submit comments identified by DOT Docket ID Number 0054 by any of the following methods:

Website: For access to the docket to read background documents or comments received go to the Federal eRulemaking Portal: Go to http://www.regulations.gov. Follow the online instructions for submitting comments.

Fax: 1-202-493-2251.

Mail: Docket Management Facility, U.S. Department of Transportation, West Building Ground Floor, Room W12-140, 1200 New Jersey Avenue SE, Washington, DC 20590-0001.

Hand Delivery or Courier: U.S. Department of Transportation, West Building Ground Floor, Room W12-140, 1200 New Jersey Avenue SE, Washington, DC 20590, between 9 a.m. and 5 p.m. ET, Monday through Friday, except Federal holidays.

FOR FURTHER INFORMATION CONTACT: Frances Ramirez, (202) 961-8605 FHWA, Office of Federal Lands Highway, Office of Federal Lands Programs, 22001 Loudoun County Parkway, Building E1, Suite 150, Ashburn, VA 20147. Office hours are from 8 a.m. to 4 p.m., Monday through Friday, except Federal holidays.

SUPPLEMENTARY INFORMATION: We published a Federal Register Notice with a 60-day public comment period on this information collection on May 9th, 2024, at 89 FR 39678. The comments and FHWA's responses are below: One comment was submitted on July 8, 2024, and no contact information was provided. In summary, the comment requested monthly cleaning of highways, fix potholes and mandate wildlife corridors, also known as green corridors on highways, in each state. The comment describes the benefits of wildlife corridors; including, safe passage during migrations, promote genetic diversity by avoiding habitat fragmentation, prevents animal-vehicle collisions creating safe corridors for big and small animals, and minimizes human-animal interaction. The NSFLTP Program supports wildlife crossings infrastructure and may be eligible as long the project is a single continuous project on a Federal Lands transportation facility, a Federal Lands access transportation facility, or a Tribal transportation facility (as defined in 23 U.S.C. 101) (FAST Act, section 1123(c)(1), (d)).

Title: Nationally Significant Federal Lands and Tribal Projects (NSFLTP) Program.

Background: The NSFLTP Program was authorized under section 1123 of the Fixing America's Surface Transportation (FAST) Act (Pub. L. 114-94) and amended by section 11127 of the BIL. The NSFLTP Program funds are to be awarded on a competitive basis for the construction, reconstruction, and rehabilitation of nationally significant projects within, adjacent to, or accessing Federal and Tribal lands. The NSFLTP Program provides an opportunity to address significant challenges across the Nation for transportation facilities that serve Federal and Tribal lands.

Respondents: Eligible applicants include Federal Land Management Agencies (FLMA); Tribal Governments; and States, counties, and units of local government may also apply, but only if sponsored by an FLMA or Tribal Government. On average, there are about 1,011 respondents.

Frequency: Annually.

Estimated Average Burden per Response: The average burden hours per response varies from 15 minutes to 10 hours depending on the form the applicant completes.

Estimated Total Annual Burden Hours: Total estimated average annual burden is 2,392 hours.

Public Comments Invited: You are asked to comment on any aspect of this information collection, including: (1) Whether the proposed collection is necessary for the FHWA's performance; (2) the accuracy of the estimated burdens; (3) ways for the FHWA to enhance the quality, usefulness, and clarity of the collected information; and (4) ways that the burden could be minimized, including the use of electronic technology, without reducing the quality of the collected information. The agency will summarize and/or include your comments in the request for OMB's clearance of this information collection.

Authority: The Paperwork Reduction Act of 1995; 44 U.S.C. chapter 35, as amended; and 49 CFR 1.48.

Issued on: July 12, 2024.
Jazmyne Lewis,
Information Collection Officer.

[FR Doc. 2024-15744 Filed 7-16-24; 8:45 am]

BILLING CODE 4910-22-P